POSTAL SERVICE

39 CFR Part 111

Line-of-Travel Sequencing for Basic Carrier Route Periodicals

AGENCY: Postal Service.

ACTION: Final rule.

SUMMARY: This final rule sets forth changes to the Domestic Mail Manual (DMM) for the preparation of basic carrier route Periodicals in line-of-travel (LOT) order.

EFFECTIVE DATE: A future date that coincides with implementation of rates resulting from the R2000-1 rate case. A document announcing the effective date will be published in the Federal Register at a later date.

FOR FURTHER INFORMATION CONTACT: Anne Emmerth, 202-268-2363; aemmerth@email.usps.gov.

SUPPLEMENTARY INFORMATION: On May 18, 2000, the Postal Service published for comment in the Federal Register (65 FR 31506) a proposed rule requiring that packages of basic carrier route Periodicals be sequenced in LOT or walk-sequence order. Mailers would be required to use the Postal Service LOT product to sequence their mail no more than 90 days prior to mailing. Alternately, mailers may prepare mail in walk sequence under the standards in M050.

This final rule is based on a cost analysis that indicated that implementing a line-of-travel or walk-sequence requirement for packages of basic carrier route Periodicals could produce significant savings.

The Postal Service received a total of four comments on the proposed rule; all of those comments strongly supported the proposal. Therefore, the Postal Service will adopt the proposed changes effective on the date that coincides with implementation of rates resulting from the R2000-1 rate case. Mailers will be notified of the effective date through the Federal Register.

The LOT product is available through the Postal Service National Customer Support Center (www.usps.com > address quality > address information systems (AIS) products or 1-800-238-3150). New postage statements will not be produced until rates are implemented for the R2000-1 rate case. Until then, mailers must annotate line 22 (for outside-county) and line 53 (for In-county) on the Forms 3541 to show the sequencing date.

On May 16, 2000, the Postal Service published for comment in the Federal Register (65 FR 31118) a proposed rule to require that, for carrier route Periodicals prepared in sacks, those sacks must contain a minimum of 24 pieces and must be sorted to a required 5-digit scheme carrier routes sack level using DMM labeling list L001. For Periodicals prepared as packages and bundles on pallets, mailers would be required to prepare a 5-digit scheme pallet using DMM labeling list L001. As described in detail in an accompanying final rule, the Postal Service will adopt those proposed changes on the same date as the preparation changes described in this final rule. Because some of these rules overlap (specifically, DMM E230.2.2a), this final rule is written to include the standards that are included in the other final rule.

Summary of Comments

The Postal Service received four comments in response to the proposed rule. The respondents included Periodicals publishers and one publisher association. All four respondents expressed strong support of the proposal as a way to reduce mail processing costs for Periodicals. Two respondents asked for additional changes to the Domestic Mail Manual to allow small newspaper publishers to get sequencing information through means other than the USPS LOT product. Those comments are outside the scope of this final rule and will be taken under consideration by the Postal Service for possible future action. However, mailers may obtain walk sequence information through the means described in DMM M050.

For the reasons discussed above, the Postal Service adopts the following amendments to the Domestic Mail Manual, which is incorporated by reference in the Code of Federal Regulation (see 39 CFR part 111).

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Amend the following sections of the Domestic Mail Manual (DMM) as follows:

E ELIGIBILITY

* * * * *

E200 Periodicals

* * * * *

E230 Nonautomation Rates

* * * * *

2.0 CARRIER ROUTE RATES

* * * * *

[Amend 2.2 by revising the heading and item a, redesignating item b as item c, and adding a new item b to read as follows:]

2.2 Sequencing

Preparation to qualify eligible pieces for carrier route rates is optional and is subject to M200. Carrier route sort need not be done for all carrier routes in a 5-digit area. Specific rate eligibility is subject to these standards:

a. The carrier route rates apply to copies in carrier route packages of six or more letter-size pieces each that are sorted to carrier routes, 5-digit carrier routes, or 3-digit carrier routes trays; and six or more flat-size pieces or irregular parcel-size pieces each that are sorted to carrier route, 5-digit, or 5-digit scheme carrier routes sacks. Preparation of 5-digit scheme carrier routes sacks is required for all 5-digit scheme destinations. The applicable sequencing requirements in M050 and in 2.2b or 2.2c also must be met.

b. Basic carrier route rate mail must be prepared either in carrier walk sequence or in line-of-travel (LOT) sequence according to LOT schemes prescribed by the USPS (M050).

c. The high density and saturation rates apply to pieces that are eligible for carrier route rates under 2.2a, are prepared in carrier walk sequence, and meet the applicable density standards in 6.0 for the rate claimed.

* * * * *

M MAIL PREPARATION AND SORTATION

M000 General Preparation Standards

M010 Mailpieces

* * * * *

M013 Optional Endorsements Lines

1.0 USE

1.1 Basic Standards

[Amend 1.1 by revising the exhibit to read as follows:]

Sortation level | OEL example
[Replace the second entry in the table with the following:]
Carrier Route-Periodicals:
(basic, high density, and saturation carrier route) | CAR-RT LOT * * C-001

* * * * *

M050 Delivery Sequence

* * * * *

3.0 DELIVERY SEQUENCE INFORMATION

* * * * *

3.4 Line-of-Travel Sequence

[Amend 3.4 by revising the first sentence to read as follows:]

Unless the mail is prepared in carrier walk sequence, LOT sequence is required for mailings at Enhanced Carrier Route basic Standard Mail (A) rates and carrier route basic Periodicals rates. * * *

4.0 DOCUMENTATION

4.1 General

[Amend 4.1 by revising the fourth sentence to read as follows:]

* * * For Periodicals, the postage statement must be annotated in the “Sequencing Date” block on each of the lines where basic, high density, and saturation per piece rate postage is reported. * * *

* * * * *

M200 Periodicals (Nonautomation)

1.0 BASIC STANDARDS

* * * * *

[Amend 1.3 by revising the heading and the second sentence to read as follows:]

1.3 Basic Carrier Route and Walk Sequence

* * * Periodicals for which a carrier route discount is claimed must be prepared as a carrier route mailing under this section and either the walk sequencing standard or the line-of-travel sequencing standard in M050; pieces prepared with a simplified address must also meet the standards in A040.

* * * * *

This change will be published in a future issue of the Domestic Mail Manual. An appropriate amendment to 39 CFR 111.3 to reflect these changes will be published.

Stanley F. Mires,
Chief Counsel, Legislative.

[FR Doc. 00-19164 Filed 7-27-00; 8:45 am]

BILLING CODE 7710-12-P